CONSUMER PRODUCT SAFETY COMMISSION

Sunshine Act Meeting

TIME AND DATE: Thursday, December 9, 2004, 10 a.m.

LOCATION: Room 420, Bethesda Towers, 4330 East West Highway, Bethesda, Maryland.

STATUS: Open to the public.

MATTER TO BE CONSIDERED:

Open Flame Flammability Standards for Mattresses, Mattress and Foundation Sets, and Bedclothes

The staff will brief the Commission on the draft notice of proposed rulemaking addressing flammability (open flame) of mattresses and foundations under the Flammable Fabrics Act (FFA) as described in the November 1, 2004, staff briefing package. The staff will also brief the Commission on options for addressing bedclothes involvement in mattress/bedding fires as discussed in the briefing package. The briefing package is available on the internet at the CPSC Web site: http://www.cpsc.gov/library/foia/foia05/brief/briefing.html.

The meeting is open to the public although the Commission will not be taking comments at that time. As required by the FFA, a full opportunity of public comment, including presentation of oral testimony, will be provided should the Commission elect to proceed with the notice of proposed rulemaking.

For a recorded message containing the latest agenda information, call (301) 504-7948.

CONTACT PERSON FOR ADDITIONAL INFORMATION: Todd A. Stevenson, Office of the Secretary, 4330 East West Highway, Bethesda, MD 20207, (301) 504-7923.

Dated: November 18, 2004.
Todd A. Stevenson,
Secretary.

[FR Doc. 04-25970 Filed 11-18-04; 2:40 pm]

BILLING CODE 6355-01-M